DEPARTMENT OF ENERGY

Federal Energy Regulatory Commission

Combined Notice of Filings #1

Take notice that the Commission received the following electric rate filings:

Docket Numbers: ER15-2593-009; ER14-661-015; ER15-1475-010; ER15-54-009; ER15-55-009; ER16-38-004; ER16-39-004; ER15-1218-006; ER15-2224-004; ER16-1154-007.

Applicants: Desert Stateline LLC, SG2 Imperial Valley LLC, North Star Solar, LLC, Lost Hills Solar, LLC, Blackwell Solar, LLC, Kingbird Solar A, LLC, Kingbird Solar B, LLC, Solar Star Colorado XIII, LLC, Solar Star Colorado III, LLC, Parrey, LLC.

Description: Notice of Non-Material of Change in Status of Desert Stateline LLC, et al.

Filed Date: 7/19/18.

Accession Number: 20180719-5120.

Comments Due: 5 p.m. ET 8/9/18.

Docket Numbers: ER16-39-003.

Applicants: Kingbird Solar B, LLC.

Description: Compliance filing: Kingbird Solar B LLC MBR Tariff Change in Status to be effective 7/20/2018.

Filed Date: 7/19/18.

Accession Number: 20180719-5073.

Comments Due: 5 p.m. ET 8/9/18.

Docket Numbers: ER17-351-005; ER17-354-005; ER17-2162-004; ER17-2163-004.

Applicants: American Falls Solar, LLC, American Falls Solar II, LLC, SunE Beacon Site 2 LLC, SunE Beacon Site 5 LLC.

Description: Notice of Change in Status of American Falls Solar, LLC, et al.

Filed Date: 7/19/18.

Accession Number: 20180719-5117.

Comments Due: 5 p.m. ET 8/9/18.

Docket Numbers: ER18-1669-001.

Applicants: Midcontinent Independent System Operator, Inc.

Description: Tariff Amendment: 2018-07-20_SA 3115 LCM-ELL Substitute Original GIA (C042) to be effective 6/10/2018.

Filed Date: 7/20/18.

Accession Number: 20180720-5042.

Comments Due: 5 p.m. ET 8/10/18.

Docket Numbers: ER18-1955-001.

Applicants: GridLiance High Plains LLC.

Description: Tariff Amendment: Amended SCMCN DX Formula Rate to be effective 10/1/2018.

Filed Date: 7/19/18.

Accession Number: 20180719-5109.

Comments Due: 5 p.m. ET 8/9/18.

Docket Numbers: ER18-1959-001.

Applicants: Midcontinent Independent System Operator, Inc.

Description: Tariff Amendment: 2018-07-20 SA 2677 GRE-NSP Substitute 3rd Rev GIA (J278) to be effective 6/21/2018.

Filed Date: 7/20/18.

Accession Number: 20180720-5027.

Comments Due: 5 p.m. ET 7/27/18.

Docket Numbers: ER18-2042-000.

Applicants: American Transmission Systems, Incorporated, PJM Interconnection, L.L.C.

Description: § 205(d) Rate Filing: ATSI submits 4 ECSAs, Service Agreement Nos. 4934, 4935, 4936, and 4937 to be effective 9/20/2018.

Filed Date: 7/20/18.

Accession Number: 20180720-5060.

Comments Due: 5 p.m. ET 8/10/18.

Take notice that the Commission received the following electric securities filings:

Docket Numbers: ES18-47-000.

Applicants: Transource West Virginia, LLC.

Description: Application under Section 204 of the Federal Power Act for Authorization to Issue Securities of Transource West Virginia, LLC.

Filed Date: 7/20/18.

Accession Number: 20180720-5046.

Comments Due: 5 p.m. ET 8/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2018.
Nathaniel J. Davis, Sr.,
Deputy Secretary.

[FR Doc. 2018-16085 Filed 7-26-18; 8:45 am]

BILLING CODE 6717-01-P